DEPARTMENT OF LABOR

Occupational Safety and Health Administration

[Docket No. ICR-1218-0067(2001)]

Underground Construction Standard; Extension of the Office of Management and Budget's (OMB) Approval of Information-Collection (Paperwork) Requirements

AGENCY: Occupational Safety and Health Administration (OSHA), Labor.

ACTION: Request for public comment.

SUMMARY: OSHA solicits comments concerning its request to increase the total burden-hour estimate for, and to extend OMB approval of, the collection-of-information requirements specified by the Underground Construction Standard (§ 1926.800).¹ This standard contains information-collection requirements for posting warning signs and notices, certifying inspection records for hoists, and developing and maintaining records for air-quality tests.

¹ Based on its assessment of the paperwork requirements contained in this standard, the Agency estimates that the total burden hours increased compared to its previous burden-hour estimate. Under this Notice, OSHA is not proposing to revise these paperwork requirements in any substantive manner, only to increase the burden hours imposed by the existing paperwork requirements.

DATES: Submit written comments on or before October 29, 2001.

ADDRESSES: Submit written comments to the Docket Office, Docket No. ICR-1218-0067(2001), OSHA, U.S. Department of labor, Room N-2625, 200 Constitution Avenue, NW., Washington, DC 20210; telephone (202) 693-2350. Commenters may transmit written comments of 10 pages or less by facsimile to (202) 693-1648.

FOR FURTHER INFORMATION CONTACT: Kathleen M. Martinez, Directorate of Policy, Office of Regulatory Analysis, OSHA, U.S. Department of Labor, Room N-3609, 200 Constitution Avenue, NW., Washington, DC 20210; telephone (202) 693-1953. A copy of the Agency's Information-Collection Request (ICR) supporting the need for the information collections specified by the Underground Construction Standard is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct.

Posting warning signs or notices. Seven paragraphs in the Underground Construction Standard (“the Standard”) require employers to post warning signs or notices during underground construction; these paragraphs are (b)(3), (i)(3), (j)(1)(vi)(A), (m)(2)(ii), (o)(2), (q)(11), and (t)(1)(iv)(B). The warning signs and notices required by these paragraphs enable employers to effectively alert employees to the presence of hazards or potential hazards at the job site, thereby preventing employee exposure to hazards or potential hazards associated with underground construction that could kill or seriously injure them.

Certifying inspection records for hoists. Paragraph (t)(xxi) of the Standard requires employers to inspect and load test hoists when they install them, and at least annually thereafter, they must also inspect and load test a hoist after making any repairs or alterations to it that affect its structural integrity, and after tripping a safety device on the hoist. Employers must also prepare a certification record of each inspection and load test that includes specified information, and maintain the most recent certification record until they complete the construction project.

Establishing and maintaining a written record of the most recent inspection and load test alerts equipment mechanics to problems identified during the inspection. Prior to returning the equipment to service, employers can review the records to ensure that the mechanics performed the necessary repairs and maintenance. Accordingly, by using only equipment that is in safe working order, employers will prevent severe injury and death to the equipment operators and other employees who work near the equipment. In addition, these records provide the most efficient means for OSHA compliance officers to determine that an employer performed the required inspections and load tests, thereby assuring that the equipment is safe to operate.

Developing and maintaining records for air-quality tests. Paragraph (j)(3) of the Standard mandates that employers develop records for air-quality tests performed under paragraph (j), including air-quality tests required by paragraphs (j)(1)(ii)(A) through (j)(1)(iii)(A), (j)(1)(iii)(B), (j)(1)(iii)(C), (j)(1)(iii)(D), (j)(1)(iv), (j)(1)(v)(A), (j)(1)(v)(B), and (j)(2)(i) through (j)(2)(v). Paragraph (j) also requires that air-quality records include specified information, and that employers maintain the records until the underground-construction project is complete; they must also make the records available to OSHA compliance officers on request.

Maintaining records of air-quality tests allows employers to document atmospheric hazards, and to ascertain the effectiveness of controls (especially ventilation) and implement additional controls if necessary. Accordingly, these requirements prevent serious injury and death to employees who work on underground-construction projects. In addition, these records provide an efficient means for employees to evaluate the accuracy and effectiveness of an employer's exposure-reduction program, and for OSHA compliance officers to determine that employers performed the required tests and implemented appropriate controls.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

In addition, the Agency is seeking comments addressing similar issues with regard to the paperwork requirements contained in the paragraphs listed below; OSHA plans to include the paperwork requirements specified by these paragraphs in the final ICR for § 1926.800. Accordingly, the Agency requests comments on the following issues for each of these paragraphs: Whether the paperwork requirement specified by the paragraph is necessary for the proper performance of the Agency's functions, including whether the information is useful; estimates of the burden (time and costs) of the paperwork requirement; the quality, utility, and clarity of the information collected; and ways to minimize the burden on employers who must comply (for example, by using automated or other technological information-collection and -transmission techniques).

• (c)—Maintain a check-in/check-out procedure.

• (d)—Instruct employees to recognize and avoid hazards.

• (e)(1)—Inform oncoming shifts of hazards.

• (e)(2)—Employers must establish and maintain direct communications with other employers.

• (j)(1)(v)(C)—Inform employees when hydrogen sulfide concentrations exceed 10 ppm.

• (q)(6)—Warn employees on jumbo decks whenever drilling is about to begin.

• (t)(iii)—Assign load and speed ratings to hoists used for both personnel and material hoisting.

III. Proposed Actions

OSHA is requesting an increase in the existing burden-hour estimate for, as well as an extension of OMB approval of, the paperwork requirements specified by the Standard. In this regard, the Agency is requesting to increase the current burden-hour estimate from 8,357 hours to 57,479 hours, a total increase of 49,122 hours. This increase largely occurred because OSHA increased the estimated number of air-quality tests conducted and the frequency for calibrating air-quality testing monitors. The Agency will summarize the comments submitted in response to this notice, and will include this summary in its request to OMB to extend its approval of these information-collection requirements.

Type of Review: Extension of currently approved information-collection requirement.

Title: Underground Construction.

OMB Number: 1218-0067.

Affected Public: Business or other for-profit; not-for-profit institutions; Federal government; State, local, or tribal governments.

Number of Respondents: 323.

Frequency of Response: Varies from recording air-quality tests twice per shift to posting a warning sign or notice once every two years.

Average Time per Response: Varies from 30 seconds to read and record air-quality test results to one hour to inspect, load test, and complete and maintain a certification record for a hoist.

Estimated Total Burden Hours: 57,479.

Estimated Cost (Operation and Maintenance): $117,000.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC, on August 27, 2001.
John L. Henshaw,
Assistant Secretary of Labor.

[FR Doc. 01-21959 Filed 8-29-01; 8:45 am]

BILLING CODE 4510-26-M